NATIONAL AERONAUTICS AND SPACE ADMINISTRATION

[17-032]

National Space-Based Positioning, Navigation, and Timing Advisory Board; Meeting

AGENCY: National Aeronautics and Space Administration (NASA).

ACTION: Notice of meeting.

SUMMARY: In accordance with the Federal Advisory Committee Act, as amended, the National Security Presidential Directive (NSPD-39) dated December 8, 2004, and Executive Order 13708 dated September 20, 2015, the National Aeronautics and Space Administration (NASA) announces a meeting of the National Space-Based Positioning, Navigation, and Timing (PNT) Advisory Board.

DATES: Wednesday, June 28, 2017, 10:00 a.m. to 6:00 p.m.; and Thursday, June 29, 2017, 9:00 a.m. to 1:00 p.m., Local Time.

ADDRESSES: Baltimore Marriott Inner Harbor, 110 South Eutaw Street, Baltimore, MD 21201.

FOR FURTHER INFORMATION CONTACT: Mr. James J. Miller, Designated Federal Officer, and Deputy Director of Policy and Strategic Communications, Space Communications and Navigation, Human Exploration and Operations Mission Directorate, NASA Headquarters, Washington, DC 20546, (202) 358-4417, fax (202) 358-4297, or jj.miller@nasa.gov.

SUPPLEMENTARY INFORMATION: The meeting will be open to the public up to the seating capacity of the room. It is imperative that the meeting be held on these dates to accommodate the scheduling priorities of the key participants. Visitors will be requested to sign a visitor's register.

The agenda for the meeting includes the following topics:

• Update on PNT Policy and Global Positioning System (GPS) Modernization.

• Prioritize current and planned GPS capabilities and services while assessing future PNT architecture alternatives with a focus on affordability.

• Examine methods in which to Protect, Toughen, and Augment (PTA) access to GPS/Global Navigation Satellite System (GNSS) services in key domains for multiple user sectors.

• Assess economic impacts of GPS on the United States and in select international regions, with a consideration towards effects of potential PNT service disruptions if radio spectrum interference is introduced.

• Review the potential benefits, perceived vulnerabilities, and any proposed regulatory constraints to accessing foreign Radio Navigation Satellite Service (RNSS) signals in the United States and subsequent impacts on multi-GNSS receiver markets.

• Explore opportunities for enhancing the interoperability of GPS with other emerging international GNSS.

• Examine emerging trends and requirements for PNT services in U.S. and international fora through PNT Board technical assessments, including back-up services for terrestrial, maritime, aviation, and space users.

Carol J. Hamilton,
Acting Advisory Committee Management Officer, National Aeronautics and Space Administration.

[FR Doc. 2017-11685 Filed 6-5-17; 8:45 am]

BILLING CODE P